DEPARTMENT OF TRANSPORTATION

Office of the Secretary

[Docket No. DOT-OST-2016-0069]

Agency Information Collection Activities: Request for Comments; Clearance of a New Information Collection(s): U.S. Department of Transportation Accessibility Concern Form

AGENCY: Department of Transportation—Office of the Secretary.

ACTION: Notice and request for comments.

SUMMARY: In accordance with the Paperwork Reduction Act of 1994, (44 U.S.C. 3501 et seq.), this notice announces the U.S. Department of Transportation's (DOT) intention to request the Office of Management and Budget's (OMB) approval for the utilization of the U.S. Department of Transportation Accessibility Concern Form when reporting accessibility challenges faced during travel on our Nation's streets, sidewalks, crosswalks, buses, trains, airports, and planes. The system will provide an accessible, coordinated, and seamless web-based portal for the traveling public to submit accessibility problems or challenges they face during travel on the Nation's streets, sidewalks, crosswalks, buses, trains, airports, and planes. The establishment of the system is in response the President's National Council on Disability (NCD) Report, “Transition Update: Where We've Been and What We've Learned,” released in 2015, as well as a letter to the Secretary of Transportation from the NCD dated May 12, 2015. The information received through the system will strengthen DOT's ability to understand the challenges and impacts that passengers with disabilities face every day when they use our nation' transportation systems.

DATES: Comments on this notice must be received by August 12, 2016.

ADDRESSES: You may submit comments identified by Docket No. DOT-OST-2016-0069 by any of the following methods:

• Federal eRulemaking Portal: http://www.regulations.gov. Follow the online instructions for submitting comments.

• Fax: 202-493-2251.

• Mail: Docket Management Facility, U.S. Department of Transportation, 1200 New Jersey Avenue SE, West Building, Room W12-140, Washington, DC 20590.

• Hand Delivery: Docket Management Facility, U.S. Department of Transportation, 1200 New Jersey Avenue SE., West Building, Room W12-140, Washington, DC 20590, between 9 a.m. and 5 p.m., Monday through Friday, excepted on Federal holidays.

FOR FURTHER INFORMATION CONTACT: Yvette Rivera, Departmental Office of Civil Rights, Office of the Secretary, U.S. Department of Transportation, 1200 new Jersey Avenue SE., Washington, DC 20590; 202-366-4648; adaconcerns@dot.gov.

SUPPLEMENTARY INFORMATION: OMB Control Number: XXXX-NEW.

Title: Transportation Accessibility Concern Form.

Form Numbers: None.

Type of Review: OMB Approval.

Background: The current process for submitting concerns about American with Disabilities Act, as amended, (ADA) and other related civil rights violations is fragmented across the Department—sometimes being time consuming and cumbersome for the traveling public. Establishing a streamlined and consistent process would respond directly to the President's National Council on Disability, and more importantly, the information received through this new system would strengthen our ability to understand the challenges and impacts that persons with disabilities face every day as they travel using our nation's transportation systems. This would also offer significant improvements to ensuring that access to all modes of transportation is available to persons with disabilities and members of the public.

Estimated Number of Respondents: the U.S. Department of Transportation currently collects data on ADA and other civil rights-related concerns based on information provided by the public via written submission, or through a toll-free telephone number. Based on our analysis of data collected through present formats, DOT receives approximately 850 separate responses from the general public on accessibility-related concerns, including:

• 150 pieces of correspondence on one-time accessibility-related incidents

• 120 email messages

• 400 telephone calls

• 172 formal accessibility-related complaints.

Currently, the estimated Total Burden on Respondents: 15 to 30 minutes per submission.

Public Comments Invited: You are asked to comment on any aspect of this information collection, including, (a) whether the proposed collection of information is necessary for the proper processing of transportation-related accessibility issues; (b) the accuracy of the estimated burden; (c) ways for the DOT to enhance the quality, utility, and clarity of the information collection; and (d) ways that the burden could be minimized without reducing the quality of the collected information. All responses to the notice will be summarized and included in the request for OMB approval. All comments will also become a matter of public record.

Issued in Washington, DC on June 6, 2016.
Habib Azarsina,
OST Privacy and PRA Officer.

[FR Doc. 2016-13872 Filed 6-10-16; 8:45 am]

BILLING CODE 4910-9X-P